DEPARTMENT OF TRANPORTATION

Federal Highway Administration

Notice of Final Federal Agency Actions of Proposed Highway in California

AGENCY: Federal Highway Administration (FHWA), DOT.

ACTION: Notice of Limitation on Claims for Judicial Review of Actions by the California Department of Transportation (Caltrans), pursuant to 23 U.S.C. 327, and the United States National Park Service, Death Valley National Park (NPS).

SUMMARY: The FHWA, on behalf of Caltrans, is issuing this notice to announce actions taken by Caltrans and NPS, that are final. The actions relate to a proposed highway project, State Route (SR) 190 in Death Valley National Park near Towne Pass, along 0.6 mile of SR 190 in County of Inyo, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before October 16, 2017. If the Federal law that authorizes judicial review of a claim provides a time period of less than 150 days for filing such claim, then that shorter time period still applies.

FOR FURTHER INFORMATION CONTACT: For Caltrans: Angela Calloway, Office Chief, District 9 Environmental; Caltrans District 9; 500 S. Main St., Bishop, CA 93514; 8 a.m.-5 p.m.; (760) 872-2424; Angie.calloway@dot.ca.gov.

For NPS: Jonathan Penman-Brotzman, Compliance Program Manager, Office of Environmental Compliance; National Park Service, Death Valley National Park; P.O. Box 579, Death Valley, CA 92328; Tuesday-Friday 8 a.m.-5 p.m.; (760) 786-3227; jonathan_brotzman@nps.gov.

SUPPLEMENTARY INFORMATION: Effective July 1, 2007, the Federal Highway Administration (FHWA) assigned, and the California Department of Transportation (Caltrans) assumed, environmental responsibilities for this project pursuant to 23 U.S.C. 327. Notice is hereby given that the Caltrans and NPS have taken final agency actions subject to 23 U.S.C. 139(l)(1) by issuing licenses, permits, and approvals for the following highway project in the State of California: The project proposes to realign approximately 0.6 mile of SR 190 to the east of the current alignment near Towne Pass in Death Valley National Park. A new highway easement will be acquired from Death Valley National Park. The current six curves will be reduced to three. The realignment will improve both vertical and horizontal curves to meet a minimum design speed of 55 miles per hour and increase stopping sight distance to 600 feet. Paved shoulders will be constructed throughout the project area and side slopes will be flattened or stabilized to create a catchment adjacent to the roadway, thus reducing the potential for rockfall. Federal Project Number 00PE014. The actions by the Federal agencies, and the laws under which such actions were taken, are described in the Final Environmental Assessment (EA) for the project, approved on May 3, 2017, in the Caltrans' Finding of No Significant Impact (FONSI) issued on May 3, 2017 and in other documents in the FHWA project records. The EA, FONSI, and other project records are available by contacting Caltrans at the address provided above. The Caltrans EA and FONSI can also be viewed and downloaded from the internet at http://www.dot.ca.gov/d9/environmental/index.html.

The NPS concurred that the proposed project would result in a de minimis impact to Death Valley National Park as a publicly owned park of national, state, or local significance pursuant to the requirements of Section 4(f) of the Department of Transportation Act (49 U.S.C. 303, 23 CFR 774). The NPS also participated as a cooperating agency and anticipates adopting the EA/FONSI to provide additional project licenses, permits, and/or approvals.

This notice applies to all Federal agency decisions as of the issuance date of this notice and all laws under which such actions were taken, including but not limited to:

1. Council on Environmental Quality regulations (40 CFR 1500 et seq.; 23 CFR 771)

2. National Environmental Policy Act (NEPA) (42 U.S.C. 4321-4351 et seq.)

3. Moving Ahead for Progress in the 21st Century Act (MAP-21, Pub. L. 112-141)

4. Clean Air Act of 1963, as amended (42 U.S.C. 7401 et seq.)

5. Noise Control Act of 1979 (42 U.S.C. 4901 et seq.)

6. FHWA Noise Standards, Policies, and Procedures (23 CFR 772)

7. Department of Transportation Act of 1966, Section 4(f) (49 U.S.C. 303)

8. Clean Water Act of 1977 and 1987 (33 U.S.C. 1344)

9. Endangered Species Act of 1973 (16 U.S.C. 1531-1543)

10. Migratory Bird Treaty Act (16 U.S.C. 703-712)

11. National Historic Preservation Act of 1966, as amended (54 U.S.C. 306108 et seq.)

12. Executive Order 11990, Protection of Wetlands

13. Executive Order 11988, Floodplain Management

14. Executive Order 13112, Invasive Species

15. Executive Order 12898, Federal Actions to Address Environmental Justice and Low-Income Populations

16. Title VI of Civil Rights Act 1964 (42 U.S.C. 2000d et seq.), as amended

(Catalog of Federal Domestic Assistance Program Number 20.205, Highway Planning and Construction. The regulations implementing Executive Order 12372 regarding intergovernmental consultation on Federal programs and activities apply to this program.)

Authority: 23 U.S.C. 139(l)(1).

Tashia Clemons,
Director, Program Development, Federal Highway Administration, Sacramento, California.

[FR Doc. 2017-09969 Filed 5-16-17; 8:45 am]

BILLING CODE 4910-RY-P